DEPARTMENT OF COMMERCE

International Trade Administration

[A-570-898]

Chlorinated Isocyanurates From the People's Republic of China: Initiation of New Shipper Review

AGENCY: Import Administration, International Trade Administration, Department of Commerce

DATES: Effective Date: January 30, 2009.

SUMMARY: The Department of Commerce (the “Department”) has determined that a request for a new shipper review of the antidumping duty order on chlorinated isocyanurates from the People's Republic of China (“PRC”), received on December 22, 2008, meets the statutory and regulatory requirements for initiation. The period of review (“POR”) of this new shipper review is June 1, 2008, through November 30, 2008.

FOR FURTHER INFORMATION CONTACT: Lilit Astvatsatrian or Charles Riggle AD/CVD Operations, Office 8, Import Administration, International Trade Administration, U.S. Department of Commerce, 14th Street and Constitution Avenue, NW., Washington, DC 20230; telephone: (202) 482-6412 and (202) 482-0650, respectively.

SUPPLEMENTARY INFORMATION:

Background

The notice announcing the antidumping duty order on chlorinated isocyanurates from the PRC was published on June 24, 2005. See Notice of Antidumping Duty Order: Chlorinated Isocyanurates From the People's Republic of China, 70 FR 36561 (June 24, 2005). On December 22, 2008, we received a timely request for a new shipper review from Juancheng Kangtai Chemical Co., Ltd. (“Kangtai”) in accordance with 19 CFR 351.214(c) and 351.214(d)(2). Kangtai has certified that it produced all of the chlorinated isocyanurates it exported which is the basis for its request for a new shipper review.

Pursuant to the requirements set forth in 19 CFR 351.214(b)(2)(i), in its request for a new shipper review, Kangtai, as an exporter and producer, certified that (1) it did not export chlorinated isocyanurates to the United States during the period of investigation (“POI”); (2) since the initiation of the investigation, Kangtai has never been affiliated with any company that exported subject merchandise to the United States during the POI; and (3) its export activities were not controlled by the central government of the PRC.

In accordance with 19 CFR 351.214(b)(2)(iv), Kangtai submitted documentation establishing the following: (1) The date on which it first shipped chlorinated isocyanurates for export to the United States and the date on which the chlorinated isocyanurates were first entered, or withdrawn from warehouse, for consumption; (2) the volume of its first shipment; and (3) the date of its first sale to an unaffiliated customer in the United States.

Initiation of New Shipper Review

Pursuant to section 751(a)(2)(B) of the Tariff Act of 1930, as amended (the “Act”) and 19 CFR 351.214(d)(1), we find that the request submitted by Kangtai meets the threshold requirements for initiation of a new shipper review for shipments of chlorinated isocyanurates from the PRC produced and exported by Kangtai. See Memorandum to the File through Wendy Frankel, Office Director, New Shipper Initiation Checklist, dated January 21, 2009. The POR is June 1, 2008, through November 30, 2008. See 19 CFR 351.214(g)(1)(i)(B). The Department will conduct this review according to the deadlines set forth in section 751(a)(2)(B)(iv) of the Act.

It is the Department's usual practice, in cases involving non-market economies, to require that a company seeking to establish eligibility for an antidumping duty rate separate from the country-wide rate provide evidence of de jure and de facto absence of government control over the company's export activities. Accordingly, we will issue questionnaires to Kangtai, which will include separate rate sections. The review will proceed if the response provides sufficient indication that Kangtai is not subject to either de jure or de facto government control with respect to its export of chlorinated isocyanurates.

On August 17, 2006, the Pension Protection Act of 2006, Public Law 109-280, (“H.R. 4”), was signed into law. Section 1632 of H.R. 4 temporarily suspends the authority of the Department to instruct U.S. Customs and Border Protection to collect a bond or other security in lieu of a cash deposit in new shipper reviews during the period April 1, 2006, through June 30, 2009. Therefore, the posting of a bond or other security under section 751(a)(2)(B)(iii) of the Act in lieu of a cash deposit is not available in this case. Importers of chlorinated isocyanurates exported and produced by Kangtai must continue to post a cash deposit of estimated antidumping duties on each entry of subject merchandise at the PRC-wide rate of 285.63 percent.

Interested parties requiring access to proprietary information in this new shipper review should submit applications for disclosure under administrative protective order in accordance with 19 CFR 351.305 and 351.306.

This initiation and notice are in accordance with section 751(a)(2)(B) of the Act and 19 CFR 351.214 and 351.221(c)(1)(i).

Dated: January 21, 2009.
Ronald K. Lorentzen,
Acting Assistant Secretary for Import Administration.

[FR Doc. E9-2077 Filed 1-29-09; 8:45 am]

BILLING CODE 3510-DS-P